DEPARTMENT OF ENERGY

New Opportunities and Challenges in U.S. Energy Security: Notice of Public Workshop

AGENCY: Office of Energy Policy and Systems Analysis, Department of Energy.

ACTION: Notice of public workshop.

SUMMARY: To support implementation of the 2015 Highway Bill (the FAST Act, Pub. L. 114-94), the U.S. Department of Energy (DOE or Department) will convene a public workshop to discuss new opportunities and challenges in U.S. energy security, covering both the electricity sector and the oil and gas sector. A mixture of panel discussions and an open comment/Q&A period will frame multi-stakeholder discourse around the meaning of energy security in a 21st century context, given record levels of U.S. fossil fuel production, ongoing changes to the U.S. electricity fuel mix and grid, and shifting geopolitical alignments related to energy development and provision.

DATES: The public workshop will be held on Friday, May 13, 2016, beginning at 9:00 a.m. Eastern Time and ending at 12:30 p.m. Eastern Time. Written comments are welcome and should be submitted at the public workshop or electronically by May 13, 2016 at 5:00 p.m. Eastern Time.

ADDRESSES: The meeting will be held in Room GE-086 (Large Auditorium) in the U.S. Department of Energy Forrestal Building, located at 1000 Independence Ave. SW., in Washington, DC 20585-0121. You may submit written comments electronically to the Office of Energy Policy and Systems Analysis, Energy Security Meeting Comments, U.S. Department of Energy, 1000 Independence Avenue SW., Washington, DC using the email address: energysecuritycomments@hq.doe.gov

FOR FURTHER INFORMATION CONTACT: Andrew Stocking, U.S. Department of Energy, Office of Energy Policy and Systems Analysis, 1000 Independence Avenue SW., Washington, DC 20585-0121. Telephone: 202-586-6072 Email: Andrew.Stocking@hq.doe.gov. To register, visit: https://doeenergysecurity.eventbrite.com

SUPPLEMENTARY INFORMATION:

Summary and Text of Section 61005 of Public Law 114-94, the FAST Act

Summary: Within 1 year, the Secretary of Energy must transmit to Congress, after public notice and comment, a report recommending energy security valuation methods for use across the Federal government. The report will assess the U.S. energy security posture, identify metrics for evaluating energy-related actions with respect to their effects on energy security, and include an implementation strategy for ensuring that metrics are applied consistently throughout the government. The Secretary of Energy will collaborate with the Secretary of State, and any other government, private, or international participants as necessary.

May 13, 2016: U.S. Energy Security Public Workshop

On May 13, 2016, DOE will hold a public workshop in Washington, DC on “New Opportunities and Challenges in U.S. Energy Security.” The meeting will feature facilitated panel discussions, followed by an open microphone session. People who would like to speak during the open microphone session at the public workshop should come prepared to speak for no more than five minutes and will be accommodated on a first-come, first-served basis, according to the order in which they register to speak on a sign-in sheet available at the meeting location, on the morning of the meeting.

Submitting comments in writing. Do not submit information for which disclosure is restricted by statute, such as trade secrets and commercial or financial information (hereinafter referred to as Confidential Business Information (CBI)). That is, do not submit CBI.

Include contact information when you submit comments, data, documents, and other information to DOE. If you submit via hand delivery/courier at the public workshop, please also provide all items electronically, if feasible, in which case it is not necessary to submit printed copies. No telefacsimiles (faxes) will be accepted.

Comments, data, and other information submitted to DOE electronically should be provided in PDF (preferred), Microsoft Word or Excel, WordPerfect, or text (ASCII) file format. Provide documents that are not secured, written in English, and are free of any defects or viruses. Documents should not contain special characters or any form of encryption and, if possible, they should carry the electronic signature of the author.

Issued in Washington, DC, on April 27, 2016.
Melanie Kenderdine,
Director, Office of Energy Policy and Systems Analysis, Energy Counselor to the Secretary, U.S. Department of Energy.

[FR Doc. 2016-10318 Filed 5-2-16; 8:45 am]

BILLING CODE 6450-01-P